SMALL BUSINESS ADMINISTRATION

Data Collection Available for Public Comments

AGENCY: U.S. Small Business Administration.

ACTION: 60-Day notice and request for comments.

SUMMARY: The U. S. Small Business Administration (SBA) intends to request approval from the Office of Management and Budget (OMB) for a new collection of information described below. The Paperwork Reduction Act (PRA) requires federal agencies to publish a notice in the Federal Register concerning each proposed collection of information before submission to OMB and to allow 60 days for public comment in response to the notice. This notice complies with that requirement.

DATES: Submit comments on or before October 14, 2025.

ADDRESSES: Send all comments to Paul Van Eyl, Director of Financial Policy, Office of Investment and Innovation, U.S. Small Business Administration at oii.policy@sba.gov or 409 3rd Street SW, Washington, DC 20416.

FOR FURTHER INFORMATION CONTACT: Paul Van Eyl, Director of Financial Policy, Office of Investment and Innovation, U.S. Small Business Administration, oii.policy@sba.gov, 202-257-5955, or Shauniece Carter, Interim Agency Clearance Officer, U.S. Small Business Administration, shauniece.carter@sba.gov, 202-205-6536.

SUPPLEMENTARY INFORMATION: SBA is proposing a new information collection to set forth certain additional compliance and reporting guidelines applicable to Small Business Investment Companies (SBICs) licensed under the SBIC Critical Technologies (SBICCTs) Initiative, which is a joint effort by SBA and the U.S. Department of Defense (DoD) Office of Strategic Capital (OSC) under a Memorandum of Agreement dated June 4, 2025, as amended and restated from time to time. Under the SBICCT Initiative, an SBICCT will be required to enter into a contractual agreement with the agencies (SBICCT Compliance Agreement) under which an SBICCT will also be required to report additional information to ensure it will attract and scale private capital investment into small businesses involved in the development of technologies, components, and production processes critical to the U.S. national and economic security and refrain from deploying capital in a manner inconsistent with public benefit. Under the SBICCT Compliance Agreement, SBICCTs will be required to report: (1) Foreign Ownership, Control, and/or Influence (FOCI) Risk Assessments on SBA Form 1030, “SBIC Critical Technologies Risk Assessment Supplemental Information”; and (2) certain additional information regarding investment activities on SBA Form 1032, “SBIC Critical Technologies Supplemental Questionnaire”. Both forms will be required within 45 calendar days following the end of each fiscal quarter (quarterly) and within 90 calendar days following the end of each fiscal year (annually).

Solicitation of Public Comments

SBA invites the public to submit comments, including specific and detailed suggestions on ways to improve the collection and reduce the burden on respondents. Commenters should also address (i) whether the information collection is necessary for the proper performance of SBA's functions, including whether it has any practical utility; (ii) the accuracy of the estimated burdens; (iii) ways to enhance the quality, utility, and clarity of the information to be collected; and (iv) the use of automated collection techniques or other forms of information technology to minimize the information collection burden on those who are required to respond.

OMB Control Number: To be assigned by OMB.

Title: SBIC Critical Technologies Compliance and Reporting.

Description of Respondents: Small Business Investment Companies Critical Technologies.

Form Numbers: 1030 and 1032.

Estimated Annual Respondents: 25.

Estimated Annual Responses: 100.

Estimated Annual Hour Burden: 100.

Alethea Ten Eyck-Sanders,
Acting Interim Agency Clearance Officer.

[FR Doc. 2025-15286 Filed 8-11-25; 8:45 am]

BILLING CODE 8026-09-P